DEPARTMENT OF ENERGY

Federal Energy Regulatory Commission

[Docket Nos. CP06-449-002; CP06-451-002]

Kinder Morgan Louisiana Pipeline, LLC; Notice of Application To Amend Certificate

July 17, 2008.

Take notice that on July 11, 2008, Kinder Morgan Louisiana Pipeline, LLC (Kinder Morgan Louisiana) with one of its offices located at 3250 Lacey Road, Suite 700, Downers Grove, IL 60515-7918 filed an Application to amend its certificate authority in Docket Nos. CP06-449, et al. Pursuant to this Application to Amend, Kinder Morgan Louisiana seeks authorization of revised initial rates for transportation service on the Kinder Morgan Louisiana facilities due to increased costs. Kinder Morgan Louisiana requests that such amended authorization be granted on an expedited basis by August 22, 2008. [This notice does not constitute concurrence to meet this expedited date.]

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Any questions regarding this Application should be directed to Bruce H. Newsome, Vice President of Certificates and Rates, Kinder Morgan Louisiana Pipeline, LLC, 3250 Lacey Road, Suite 700, Downers Grove, IL 60515-7918, telephone: (630) 725-3070, e-mail: brucenewsome@kindermorgan.com.

Kinder Morgan Louisiana states that the increased costs are primarily due to substantially higher contractor construction costs than originally anticipated due to an overall increase in the market demand for such services. In addition, since the start of construction, Kinder Morgan Louisiana states costs have increased due to inclement weather and constant high winds resulting in delays in the construction schedule, an increase in fuel costs resulting from the higher market price for fuel combined with increased fuel usage associated with additional barges and equipment that were required to contend with the wind during construction, and the re-routing of facilities in waterbodies.

Kinder Morgan Louisiana is requesting Commission approval to revise its previously filed firm and interruptible transportation rates for the Kinder Morgan Louisiana system in order to reflect an increase of $76.6 million in the estimated costs to construct its facilities, from $517 million as previously approved by the Commission to $593.6 million. The revised cost of service for Kinder Morgan Louisiana's system results in an increase in the firm reservation rate of $0.36 (from $2.43 per Dth to $2.79 per Dth per month per maximum daily quantity of contract demand). The transportation rate for interruptible service has likewise increased by $0.0118 from $.0799 per Dth to $0.0917 per Dth.

Any person desiring to intervene or to protest this filing must file in accordance with rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: 5 p.m. Eastern Time on August 1, 2008.

Kimberly D. Bose,
Secretary.

[FR Doc. E8-17161 Filed 7-25-08; 8:45 am]

BILLING CODE 6717-01-P